DEPARTMENT OF THE INTERIOR

National Park Service

Announcement of Subsistence Resource Commission meeting

AGENCY: National Park Service, Interior.

ACTION: Announcement of Subsistence Resource Commission meeting.

SUMMARY: The Subsistence Resource Commission for Lake Clark National Park and Preserve has scheduled their meeting for February 15, 2001. The meeting will be held at the Park hangar in Port Alsworth, Alaska. The meeting will commence at 10:00 am and conclude that afternoon. The public is welcome to attend. The following agenda items will be discussed:

(1) Call to order.

(2) Roll call-Confirm Quorum.

(3) Introductions.

(4) Superintendent's Welcome.

(5) Additions, corrections and agenda approval.

(6) Approval of SRC meeting minutes.

(7) SRC Purpose and Role.

(8) Status of Membership.

(9) Report on October 2000 Chair Workshop

a. NPS Customary Trade Regulations.

b. Rule Making For 1 Year Resident Zone Requirement.

c. Revise SRC Charter to Allow Alternates.

(10) Old Business.

a. Proposal #33 (Customary and Traditional Use Determination for Tuxedni Bay salmon).

(11) New Business.

a. Update on 2001-2002 Federal Subsistence Board Proposals.

(1) Proposal #1 and #2 Statewide-Definitions.

(2) Proposal #16 Unit 9B-C & T.

(3) Proposal #19 Unit 9B-Sheep.

b. Federal Subsistence Fisheries Report.

(12) Lake Clark National Park and Preserve Report.

a. Subsistence Program Report.

b. Resource Program Report.

(13) Agency Reports and Public Comments.

(14) SRC Work Session-Prepare correspondence/recommendations.

(15) Set time and place of next meeting.

(16) Adjournment.

DATES: The meeting will begin at 10:00 a.m. on Thursday, February 15, 2001 and conclude around 4:30 p.m.

Location: The meeting will be held at the Park Service hangar, Port Alsworth, Alaska Phone (907) 781-2218.

FOR FURTHER INFORMATION CONTACT: Lee Fink, Chief of Operations, 4230 University Drive, Suite 311, Anchorage, Alaska 99508 Phone (907) 271-3751 or Karen Stickman, Subsistence Coordinator, 1 Park Place, Port Alsworth, Alaska 99653 Phone (907) 781-2218.

SUPPLEMENTARY INFORMATION: The Subsistence Resource Commission is authorized under Title VIII, Section 808, of the Alaska National Interest Lands Conservation Act, Pub. L. 96-487 and operate in accordance with provisions of the Federal Advisory Committees Act. Note that under the Freedom of Information Act (FOIA), transcripts of any person giving public comments may be made available under a FOIA request.

Ralph Tingey,
Acting Regional Director.

[FR Doc. 01-3351 Filed 2-8-01; 8:45 am]

BILLING CODE 4310-70-P